FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011384-003.

Title: MOSK/HUAL Space Charter Agreement.

Parties: Mitsui O.S.K. Lines Ltd. and HUAL A/S.

Filing Party: Wayne R. Rohde, Esq.; Sher & Blackwell; 1850 M Street, NW.; Washington, DC 20036.

Synopsis: The amendment deletes rate discussion authority from the agreement.

Agreement No.: 011526-004.

Title: MOSK/HUAL Space Charter Agreement.

Parties: Mitsui O.S.K. Lines Ltd. and HUAL A/S.

Filing Party: Wayne R. Rohde, Esq.; Sher & Blackwell; 1850 M Street, NW.; Washington, DC 20036.

Synopsis: The amendment deletes rate discussion authority from the agreement.

Agreement No.: 011637-011.

Title: AMPAC Cooperative Working Agreement.

Parties: Compania Chilena de Navegacion Interoceanica, S.A.; Hamburg-Süd; and Maruba S.C.A.

Filing Party: Wayne R. Rohde, Esq.; Sher & Blackwell; 1850 M Street, NW., Suite 900; Washington, DC 20036.

Synopsis: The proposed agreement modification reflects Maruba's withdrawal from the agreement in April 2005 and the redeployment of vessels due to its departure, establishes a new minimum duration for the revised agreement, makes minor technical changes, and restates the agreement.

By Order of the Federal Maritime Commission.
Dated: December 23, 2004.
Bryant L. VanBrakle,
Secretary.

[FR Doc. 04-28466 Filed 12-28-04; 8:45 am]

BILLING CODE 6730-01-P